DEPARTMENT OF TRANSPORTATION

Federal Aviation Administration

14 CFR Part 39

[Docket No. FAA-2012-0598; Directorate Identifier 2012-CE-017-AD; Amendment; 39-17150; AD 2012-16-03]

RIN 2120-AA64

Airworthiness Directives; HPH s. r.o. Sailplanes

AGENCY: Federal Aviation Administration (FAA), Department of Transportation (DOT).

ACTION: Final rule.

SUMMARY: We are adopting a new airworthiness directive (AD) for all HPH s. r.o. Models 304C, 304CZ, and 304CZ-17 sailplanes. This AD results from mandatory continuing airworthiness information (MCAI) issued by an aviation authority of another country to identify and correct an unsafe condition on an aviation product. The MCAI describes the unsafe condition as the lack of a drain hole in the elevator control rod, which may allow water to accumulate in the control rod and lead to possible corrosion. This condition could cause the elevator control rod to fail, which could result in loss of control of the sailplane. We are issuing this AD to require actions to address the unsafe condition on these products.

DATES: This AD is effective September 12, 2012.

The Director of the Federal Register approved the incorporation by reference of a certain publication listed in the AD as of September 12, 2012.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact HPH spol. s. r.o., Čáslavská 126, P.O. Box 112, 284 01 Kutná Hora, Czech Republic; phone: +420 327 512 633; fax: +420 327 513 441; email: hph@hph.cz; Internet: www.hph.cz. You may review copies of the referenced service information at the FAA, Small Airplane Directorate, 901 Locust, Kansas City, Missouri 64106. For information on the availability of this material at the FAA, call (816) 329-4148.

FOR FURTHER INFORMATION CONTACT: Taylor Martin, Aerospace Engineer, FAA, Small Airplane Directorate, 901 Locust, Room 301, Kansas City, Missouri 64106; phone: (816) 329-4138; fax: (816) 329-4090; email: taylor.martin@faa.gov.

SUPPLEMENTARY INFORMATION:

Discussion

We issued a notice of proposed rulemaking (NPRM) to amend 14 CFR part 39 to include an AD that would apply to the specified products. That NPRM was published in the Federal Register on June 5, 2012 (77 FR 33127). That NPRM proposed to correct an unsafe condition for the specified products. The MCAI states:

A broken elevator control rod in the vertical fin on a Kestrel sailplane has been reported.

The technical investigation revealed that water had soaked into the elevator control rod through a control bore hole and resulted in corrosion damage. The investigation concluded that the corrosion cannot be detected from outside the elevator control rod.

This condition, if not detected and corrected, could lead to failure of the elevator control rod, possibly resulting in loss of control of the sailplane.

To address this unsafe condition, HPH spol. s.r.o. published Service Bulletins (SB): G304CZ-06a), G304CZ17-06a), G304C-06a), providing instructions for elevator control rod inspection and replacement.

For the reasons described above, this AD requires accomplishment of a one-time inspection of the elevator control rod in the vertical fin and replacement with an improved control rod if control rod without drainage hole is used.

You may obtain further information by examining the MCAI in the AD docket.

Comments

We gave the public the opportunity to participate in developing this AD. We received no comments on the NPRM (77 FR 33127, June 5, 2012) or on the determination of the cost to the public.

Conclusion

We reviewed the relevant data and determined that air safety and the public interest require adopting the AD as proposed except for minor editorial changes. We have determined that these minor changes:

• Are consistent with the intent that was proposed in the NPRM (77 FR 33127, June 5, 2012) for correcting the unsafe condition; and

• Do not add any additional burden upon the public than was already proposed in the NPRM (77 FR 33127, June 5, 2012).

Costs of Compliance

We estimate that this AD will affect 10 products of U.S. registry. We also estimate that it will take about 6 work-hours per product to comply with the basic requirements of this AD. The average labor rate is $85 per work-hour. Required parts will cost about $233 per product.

Based on these figures, we estimate the cost of this AD on U.S. operators to be $7,430, or $743 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-16-03 HPH s. r.o. Sailplanes: Amendment 39-17150; Docket No. FAA-2012-0598; Directorate Identifier 2012-CE-017-AD.

(a) Effective Date

This airworthiness directive (AD) becomes effective September 12, 2012.

(b) Affected ADs

None.

(c) Applicability

This AD applies to HPH s. r.o. Models 304C, 304CZ, and 304CZ-17 sailplanes, all serial numbers, certificated in any category.

(d) Subject

Air Transport Association of America (ATA) Code 27, Flight controls.

(e) Reason

This AD was prompted by mandatory continuing airworthiness information (MCAI) originated by an aviation authority of another country to identify and correct an unsafe condition on an aviation product. The MCAI describes the unsafe condition as the lack of a drain hole in the elevator control rod, which may allow water to accumulate in the control rod and lead to possible corrosion. We are issuing this AD to prevent failure of the elevator control rod, which could result in loss of control of the sailplane.

(f) Actions and Compliance

Unless already done, do the following actions in accordance with HPH spol. s. r.o. Service Bulletin No.: G304CZ—06 a)_R01, G304C—06 a)_R01, G304CZ17—06 a)_R01, dated April 23, 2012:

(1) Within 30 days after September 12, 2012 (the effective date of this AD), inspect the elevator control rod in the vertical fin.

(2) If you find any deficiency during the inspection required by paragraph (f)(1) of this AD, before further flight, replace the elevator control rod with an elevator control rod that has a drain hole.

(3) Within 9 months after September 12, 2012 (the effective date of this AD), unless already done as required by paragraph (f)(2) of this AD, replace the elevator control rod in the vertical fin with an elevator control rod that has a drain hole.

(4) As of September 12, 2012 (the effective date of this AD), do not install an elevator control rod without a drainage hole.

(g) Material Incorporated by Reference

(1) You must use HPH spol. s. r.o. Service Bulletin No.: G304CZ—06 a)_R01, G304C—06 a)_R01, G304CZ17—06 a)_R01, dated April 23, 2012, to do the actions required by this AD, unless the AD specifies otherwise. The Director of the Federal Register approved the incorporation by reference (IBR) under 5 U.S.C. 552(a) and 1 CFR part 51.

(2) For service information identified in this AD, contact HPH spol. s. r.o., Čáslavská 126, P.O. Box 112, 284 01 Kutná Hora, Czech Republic, telephone: +420 327 512 633; fax: +420 327 513 441; email: hph@hph.cz; Internet: www.hph.cz.

(3) You may review copies of the service information at the FAA, FAA, Small Airplane Directorate, 901 Locust, Kansas City, Missouri 64106. For information on the availability of this material at the FAA, call (816) 329-4148.

(4) You may also review copies of the service information that is incorporated by reference at the National Archives and Records Administration (NARA). For information on the availability of this material at an NARA facility, call 202-741-6030, or go to http://www.archives.gov/federal-register/cfr/index.html.

Issued in Kansas City, Missouri, on July 30, 2012.
Earl Lawrence,
Manager, Small Airplane Directorate, Aircraft Certification Service.

[FR Doc. 2012-19094 Filed 8-7-12; 8:45 am]

BILLING CODE 4910-13-P